DEPARTMENT OF HOMELAND SECURITY

Coast Guard

33 CFR Part 117

[Docket No. USCG-2015-0552]

Drawbridge Operation Regulation; Chambers Creek, Steilacoom, WA

AGENCY: Coast Guard, DHS.

ACTION: Notice of deviation from drawbridge regulation.

SUMMARY: The Coast Guard has issued a temporary deviation from the operating schedule that governs the Burlington Northern Santa Fe (BNSF) Chambers Creek Railway Bridge across Chambers Creek, mile 0.0, at Steilacoom, Washington. The deviation is necessary to minimize the effects of train noise on the 2015 U.S. Golf Association Championship held at Chambers Bay Golf Course. This deviation allows the bridge to open only upon 1 hour notice from 7 a.m. to 4 p.m. on June 14, 2015 and 7 a.m. to 5 p.m. each day from June 15, 2015 to June 22, 2015. At all other times the bridge will open on signal in accordance with its normal operating regulation.

DATES: This deviation is effective without actual notice from June 18, 2015 to 5 p.m. on June 22, 2015. For the purposes of enforcement, actual notice will be used from 7 a.m. on June 14, 2015, until June 18, 2015.

ADDRESSES: The docket for this deviation, [USCG-2015-0552] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven Fischer, Thirteenth Coast Guard District Bridge Program Administrator; telephone 206-220-7282, Steven.M.Fischer3@uscg.mil. If you have questions on viewing the docket, call Cheryl Collins, Program Manager, Docket Operations, telephone 202-366-9826.

SUPPLEMENTARY INFORMATION: The Coast Guard has been requested to issue this bridge deviation to allow BNSF to implement noise reduction operations near the Chambers Bay Golf Course during the 2015 U.S. Golf Association Championship being held there. This deviation allows the BNSF Chambers Creek Railway Bridge to open only upon 1 hour notice from 7 a.m. to 4 p.m. on June 14, 2015 and 7 a.m. to 5 p.m. each day from June 15, 2015 to June 22, 2015. At all other times the bridge will open on signal in accordance with its normal operating regulation. Doing so will minimize the number of trains required to idle while awaiting bridge openings.

The BNSF Chambers Creek Railway Bridge across Chambers Creek, mile 0.0, near Steilacoom, Washington provides 50 feet of vertical clearance in the raised position, 10 feet of vertical clearance in the closed position and 80 feet of horizontal clearance. Reference plan is mean high water elevation of 12.2 feet. The normal operation schedule falls under 33 CFR 117.5.

This deviation is effective from 7 a.m. on June 14, 2015 to 5 p.m. on June 22, 2015. The deviation allows the bridge to open only upon 1 hour notice from 7 a.m. to 4 p.m. on June 14, 2015 and 7 a.m. to 5 p.m. each day from June 15, 2015 to June 22, 2015. At all other times the bridge will open on signal in accordance with its normal operating regulation.

Vessels able to pass through the bridge in the closed positions may do so at anytime. The bridge will be able to open for emergencies and there is no immediate alternate route for vessels to pass. The Coast Guard will also inform the users of the waterway of the change in operating schedule for the bridge through Local and Broadcast Notices to Mariners so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 11, 2015.
Steven M. Fischer,
Bridge Administrator, Thirteenth Coast Guard District.

[FR Doc. 2015-14882 Filed 6-17-15; 8:45 am]

BILLING CODE 9110-04-P